DEPARTMENT OF COMMERCE

International Trade Administration

[A-570-863]

Honey From the People's Republic of China: Extension of Time Limit for Final Results of Antidumping Duty Administrative Review

AGENCY: Import Administration, International Trade Administration, Department of Commerce.

EFFECTIVE DATE: April 19, 2004.

FOR FURTHER INFORMATION CONTACT: Angelica Mendoza or Brandon Farlander at (202) 482-3019 or (202) 482-0182, respectively; Antidumping and Countervailing Duty Enforcement Group III, Import Administration, International Trade Administration, U.S. Department of Commerce, 14th Street and Constitution Avenue, NW., Washington, DC 20230.

SUPPLEMENTARY INFORMATION:

Background

On December 10, 2001, the Department of Commerce (the Department) published the antidumping duty order on honey from the People's Republic of China (PRC). See Notice of Amended Final Determination of Sales at Less Than Fair Value and Antidumping Duty Order; Honey From the People's Republic of China, 66 FR 63670 (December 10, 2001). On December 17, 2002, the Department published an opportunity to request an administrative review of the antidumping duty order on honey from the PRC for the period May 11, 2001, through November 30, 2002 (67 FR 77222). On December 31, 2002, the Department received a timely request from the American Honey Producers Association and the Sioux Honey Association (collectively, petitioners) requesting that the Department conduct an administrative review of the antidumping duty order on honey exported to the United States from the following PRC honey producers/exporters: (1) Anhui Native Produce Import & Export Corp. (Anhui); (2) Henan Native Produce and Animal By-Products Import & Export Company (Henan); (3) High Hope International Group Jiangsu Foodstuffs Import and Export Corp. (High Hope); (4) Inner Mongolia Autonomous Region Native Produce and Animal By-Products Import & Export Corp. (Inner Mongolia); (5) Kunshan Foreign Trade Company (Kunshan); (6) Shanghai Eswell Enterprise Co., Ltd. (Shanghai Eswell); (7) Shanghai Xiuwei International Trading Co., Ltd. (Shanghai Xiuwei); (8) Sichuan-Dujiangyan Dubao Bee Industrial Co., Ltd. (Sichuan Dubao); (9) Wuhan Bee Healthy Co., Ltd. (Wuhan); and (10) Zhejiang Native Produce and Animal By-Products Import & Export Corp.

On December 31, 2002, we received a timely request from Zhejiang Native Produce and Animal By-Products Import & Export Corp., a.k.a. Zhejiang Native Produce and Animal By-Products Import and Export Group Corporation (Zhejiang), requesting that the Department conduct an administrative review of its honey shipments to the United States during the period May 11, 2001, through November 30, 2002. On January 22, 2003, the Department initiated the first administrative review of the antidumping duty order on honey from the PRC, for the period of May 11, 2001, through November 30, 2002, in order to determine whether merchandise imported into the United States is being sold at less than fair value with respect to these ten companies. See Initiation of Antidumping and Countervailing Duty Administrative Review and Requests for Revocations in Part, 68 FR 3009 (January 22, 2003) (Administrative Review Initiation).¹

¹ In a separate proceeding, the Department also received timely requests from Shanghai Xiuwei and Sichuan Dubao, in accordance with 19 CFR 351.214(c), for new shipper reviews of the antidumping duty order on honey from the PRC, which has a December annual anniversary month. On February 5, 2003, we initiated new shipper reviews for Shanghai Xiuwei and Sichuan Dubao. See Initiation of New Shipper Antidumping Duty Reviews, 68 FR 5868 (February 5, 2003). The POR for the new shipper reviews of these two companies is identical to the POR for the administrative review.

On January 27, 2003, the Department clarified that the period of review (POR) for High Hope, Kunshan, Zhejiang, Wuhan, Shanghai Xiuwei, and Sichuan Dubao is February 10, 2001, through November 30, 2002. See Memorandum to the File through Donna L. Kinsella, Case Manager, Office 8; POR for Exporters of Honey From the People's Republic of China With Affirmative Critical Circumstances Findings (January 27, 2003).

On July 25, 2003, the Department extended the due date for the preliminary results of this review (68 FR 44046). On December 16, 2003, the Department published the preliminary results of this review (68 FR 69988).

Extension of Time Limit for Final Results

Pursuant to section 751(a)(3)(A) of the Act, the Department may extend the deadline for completion of the final results of an administrative review if it determines that it is not practicable to complete the final results within the statutory time limit of 120 days from the date on which the preliminary results were published. The Department has determined that it is not practicable to complete the final results of this review within the statutory time limit. Due to the complexity of the surrogate value issues raised in the case briefs, it is not practicable to complete this review within the time limits mandated by section 751(a)(3)(A) of the Act and section 19 CFR 351.213(h)(1) of the Department's regulations. Therefore, the Department is extending the time limit for the completion of these final results by 14 days. Accordingly, the final results will now be due no later than April 28, 2004.

This notice is published in accordance with section 751(1)(3)(A) of the Act and section 19 CFR 351.213(h)(2) of the Department's regulations.

Dated: April 13, 2004.
Barbara E. Tillman,
Acting Deputy Assistant Secretary for Import Administration, Group III.

[FR Doc. 04-8803 Filed 4-16-04; 8:45 am]

BILLING CODE 3510-DS-P